OFFICE OF PERSONNEL MANAGEMENT

CFC-50 Commission

AGENCY: Office of Personnel Management.

ACTION: Establishment of advisory committee.

SUMMARY: The U.S. Office of Personnel Management announces the establishment of the CFC-50 Advisory Commission. The Commission shall advise the Director of the U.S. Office of Personnel Management (OPM) on strengthening the integrity, the operation and effectiveness of the Combined Federal Campaign (CFC) to ensure its continued growth and success. The Commission is an advisory committee composed of Federal employees, private campaign administrators, charitable organizations and “watchdog” groups. The Commission is co-chaired by Thomas Davis and Beverly Byron.

FOR FURTHER INFORMATION CONTACT: Keith Willingham, Director, Combined Federal Campaign, U.S. Office of Personnel Management, 1900 E St., NW., Suite 6484, Washington, DC 20415. Phone (202) 606-2564 FAX (202) 606-5056 or e-mail at cfc@opm.gov.

SUPPLEMENTARY INFORMATION: The charter for the CFC-50 Commission publishes as follows:

1. Committee's Official Designation (Title). The CFC-50 Commission

2. Authority. This charter establishes the CFC-50 Commission in accordance with the provisions of the Federal Advisory Committee Act (FACA), as amended, 5 U.S.C. App. The Commission is in the public interest and supports the U.S. Office of Personnel Management (OPM) in performing its duties and responsibilities under 5 CFR § 950.

3. Objectives and Scope of Activities. The purpose of the Commission is to advise the Director of OPM on strengthening the integrity, the operation and effectiveness of the Combined Federal Campaign (CFC) to ensure its continued growth and success.

4. Description of Duties. The Commission shall advise the Director of OPM on matters pertaining to the CFC. Its activities shall include, to the extent permitted by the law:

a. reviewing the present structure of the CFC and recommending changes;

b. reviewing current processes and recommending changes;

c. developing recommendations for innovative ways to improve the CFC; and

d. developing recommendations for changes to the regulations and/or legislation to improve and strengthen the CFC.

5. Agency Official to Whom the Commission Reports. The Commission will report recommendations to the OPM Director.

6. Support. OPM is responsible for providing administrative services and support to the Commission.

7. Estimated Annual Operating Costs and Staff Years. The estimated annual operating expenses of the Commission are $70,000. These expenses include funds to cover actual staff time devoted to preparation for meetings and technical discussions at meetings, expenses for preparing and printing discussion materials and administrative costs for filing the charter, preparing Federal Register notices, preparing minutes of the meetings and travel cost of some members to attend meetings. Approximately 0.5 FTE.

8. Designated Federal Officer (DFO). The Director, Combined Federal Campaign at OPM shall be appointed as the DFO of the Commission. The DFO will approve or call all of the Commission's and subcommittees' meetings, prepare and approve all meeting agendas, attend all Commission and subcommittee meetings, adjourn any meeting when they determine adjournment to be in the public interest, and chair meetings when directed to do so by the official to whom the Commission reports.

9. Estimated Frequency of Meetings. The frequency of meetings will be determined by the co-chairs of the Commission with the approval of the DFO. It is estimated there will be three meetings.

10. Duration. It is expected that the Commission will conclude its work in approximately six months.

11. Termination. March 31, 2012.

12. Membership and Designation. The Commission will include a total of approximately 28 Federal workers and non-government individuals, including civilian, postal and military personnel. The Commission members will represent various perspectives from the CFC community including donors, Federal campaign volunteers, non-government administrators of the campaign, participating charities and watchdog groups. These members will consist of both representatives and special government employees.

13. Subcommittees. The co-chairs of the Commission, with the Agency's approval, are responsible for directing the work of the Commission, including the creation of subcommittees necessary to carry out the Commission's mandate. Such committees report to the Commission and will not provide advice directly to the Agency.

14. Recordkeeping. The records of the Commission, as well as any formally and informally established subcommittees, shall be maintained in accordance with General Records Schedule 26, Item 2 or other appropriate agency records disposition schedule. These records shall be available for public inspection and copying, subject to applicable exemptions of the Freedom of Information Act, 5 U.S.C. 552.

U.S. Office of Personnel Management.
John Berry,
Director.

[FR Doc. 2011-22875 Filed 9-6-11; 8:45 am]

BILLING CODE 6325-46-P